DEPARTMENT OF COMMERCE

International Trade Administration

[A-570-060, A-533-875, A-580-893, A-583-860]

Fine Denier Polyester Staple Fiber From the People's Republic of China, India, the Republic of Korea, and Taiwan: Antidumping Duty Orders

AGENCY: Enforcement and Compliance, International Trade Administration, Department of Commerce.

SUMMARY: Based on affirmative final determinations by the Department of Commerce (Commerce) and the International Trade Commission (ITC), Commerce is issuing antidumping duty orders on fine denier polyester staple fiber (fine denier PSF) from the People's Republic of China (China), India, the Republic of Korea (Korea), and Taiwan.

DATES: Applicable July 20, 2018.

FOR FURTHER INFORMATION CONTACT: Edythe Artman at (202) 482-3931 (China), Patrick O'Connor at (202) 482-0989 (India), Karine Gziryan at (202) 482-4081 (Korea), Lilit Astvatsatrian at (202) 482-6412 (Taiwan), AD/CVD Operations, Enforcement and Compliance, U.S. Department of Commerce, 1401 Constitution Avenue NW, Washington, DC 20230.

SUPPLEMENTARY INFORMATION:

Background

In accordance with sections 735(a), 735(d), and 777(i)(1) of the Tariff Act of 1930, as amended (the Act), and 19 CFR 351.210(c), on May 30, 2018, Commerce published its affirmative final determinations in the less-than-fair-value (LTFV) investigations of fine denier PSF from China, India, Korea and Taiwan.¹ On July 13, 2018, the ITC notified Commerce of its affirmative final determinations that an industry in the United States is materially injured within the meaning of section 735(b)(1)(A)(i) of the Act, by reason of LTFV imports of fine denier PSF from China, India, Korea, and Taiwan.²

¹ See Fine Denier Polyester Staple Fiber from the People's Republic of China: Final Affirmative Determination of Sales at Less Than Fair Value, 83 FR 24740 (May 30, 2018); Fine Denier Polyester Staple Fiber from India: Final Affirmative Determination of Sales at Less Than Fair Value, 83 FR 24737 (May 30, 2018); Fine Denier Polyester Staple Fiber from the Republic of Korea: Final Affirmative Determination of Sales at Less Than Fair Value, 83 FR 24743 (May 30, 2018); and Fine Denier Polyester Staple Fiber from Taiwan: Final Affirmative Determination of Sales at Less Than Fair Value, 83 FR 24745 (May 30, 2018).

² See Letter to Gary Taverman, Acting Assistant Secretary of Commerce for Enforcement and Compliance, from David S. Johanson, Chairman of the U.S. International Trade Commission, regarding fine denier polyester staple fiber from China, India, Korea, and Taiwan (July 13, 2018).

Scope of the Orders

The product covered by these orders is fine denier PSF from China, India, Korea, and Taiwan. For a complete description of the scope of these orders, see the Appendix to this notice.

Antidumping Duty Orders

In accordance with sections 735(b)(1)(A)(i) and 735(d) of the Act, the ITC notified Commerce of its final determinations in these investigations, in which it found that an industry in the United States is materially injured by reason of imports of fine denier PSF from China, India, Korea, and Taiwan.³ Therefore, in accordance with section 735(c)(2) of the Act, Commerce is issuing these antidumping duty orders. Because the ITC determined that imports of fine denier PSF from China, India, Korea, and Taiwan are materially injuring a U.S. industry, unliquidated entries of such merchandise from China, India, Korea, and Taiwan, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of fine denier PSF from China, India, Korea, and Taiwan. With the exception of entries occurring after the expiration of the provisional measures period and before publication of the ITC's final affirmative injury determinations, as further described below, antidumping duties will be assessed on unliquidated entries of fine denier PSF from China, India, Korea, and Taiwan entered, or withdrawn from warehouse, for consumption on or after January 5, 2018, the date of publication of the preliminary determinations.⁴ Additionally, because the estimated weighted-average dumping for subject merchandise produced and exported by Tainan Spinning Co., Ltd. was determined to be zero in the investigation of fine denier PSF from Taiwan, and the estimated weighted-average dumping for subject merchandise produced and exported by Toray Chemical Kora Inc. was determined to be zero in the investigation of fine denier PSF from Korea, Commerce is directing CBP to not suspend liquidation of entries of subject merchandise from these exporter/producer combinations for each of the respective orders. Entries of subject merchandise exported to the United States by any other producer and exporter combination are not entitled to this exclusion from suspension of liquidation and are subject to the applicable cash deposit rates noted below.

⁴ See Fine Denier Polyester Staple Fiber from the People's Republic of China: Preliminary Affirmative Determination of Sales at Less Than Fair Value, Postponement of Final Determination, and Extension of Provisional Measures, 83 FR 665 (January 5, 2018), and accompanying Preliminary Decision Memorandum (China Preliminary Determination); Fine Denier Polyester Staple Fiber from India: Preliminary Affirmative Determination of Sales at Less Than Fair Value, Postponement of Final Determination, and Extension of Provisional Measures, 83 FR 662 (January 5, 2018), and accompanying Preliminary Decision Memorandum (India Preliminary Determination); Fine Denier Polyester Staple Fiber from the Republic of Korea: Preliminary Affirmative Determination of Sales at Less Than Fair Value, Postponement of Final Determination, and Extension of Provisional Measures, 83 FR 660 (January 5, 2018), and accompanying Preliminary Decision Memorandum (Korea Preliminary Determination); and Fine Denier Polyester Staple Fiber from Taiwan: Preliminary Affirmative Determination of Sales at Less Than Fair Value, Postponement of Final Determination, and Extension of Provisional Measures, 83 FR 668 (January 5, 2018), and accompanying Preliminary Decision Memorandum (Taiwan Preliminary Determination).

Continuation of Suspension of Liquidation

Except as noted above and in the “Provisional Measures” section of this notice below, in accordance with section 735(c)(1)(B) of the Act, Commerce will instruct CBP to continue to suspend liquidation on all relevant entries of fine denier PSF from China, India, Korea, and Taiwan. These instructions suspending liquidation will remain in effect until further notice.

Commerce will also instruct CBP to require cash deposits equal to the estimated weighted-average dumping margins, or cash deposits adjusted for subsidy offset, as applicable, indicated in the tables below. Given that the provisional measures period has expired, as explained below, effective on the date of publication in the Federal Register of the notice of the ITC's final affirmative injury determinations, CBP will require, at the same time as importers would normally deposit estimated duties on subject merchandise, a cash deposit equal to the estimated weighted-average dumping margins or cash deposits adjusted for subsidy offset, as applicable, listed in the tables below.⁵ The relevant all-others rates apply to all producers or exporters not specifically listed. The China-wide entity rate applies to all exporter-producer combinations not specifically listed.

⁵ See section 736(a)(3) of the Act.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of fine denier PSF from China, India, Korea, and Taiwan, Commerce extended the four-month period to six months in each of these investigations. Commerce published the preliminary determinations in these investigations on January 5, 2018.⁶ Hence, the extended provisional measures period, beginning on the date of publication of the preliminary determinations, ended on July 3, 2018.

⁶ See China Preliminary Determination, India Preliminary Determination, Korea Preliminary Determination, and Taiwan Preliminary Determination.

Therefore, in accordance with section 733(d) of the Act and our practice,⁷ Commerce will instruct CBP to terminate the suspension of liquidation and to liquidate, without regard to antidumping duties, unliquidated entries of fine denier PSF from China, India, Korea, and Taiwan entered, or withdrawn from warehouse, for consumption after July 3, 2018, the final day on which the provisional measures were in effect, until and through the day preceding the date of publication of the ITC's final affirmative injury determinations in the Federal Register. Suspension of liquidation and the collection of cash deposits will resume on the date of publication of the ITC's final determinations in the Federal Register.

⁷ See Certain Corrosion-Resistant Steel Products from India, Italy, the People's Republic of China, the Republic of Korea and Taiwan: Amended Final Affirmative Antidumping Determination for India and Taiwan, and Antidumping Duty Orders, 81 FR 48390, 48392 (July 25, 2016).

Estimated Weighted-Average Dumping Margins

The estimated weighted-average antidumping duty margin percentages and cash deposit rates adjusted for subsidy offset, as applicable, are as follows:

China

Exporter | Producer | Estimated weighted- average dumping margin (percent) | Cash deposit adjusted for subsidy offset (percent)
Jiangyin Hailun Chemical Fiber Co. Ltd | Jiangyin Hailun Chemical Fiber Co. Ltd./Jiangyin Xinlun Chemical Fiber Co., Ltd./Jiangyin Yunlun Chemical Fiber Co., Ltd./Jiangyin Bolun Chemical Fiber Co., Ltd./Jiangyin Fenghua Synthetic Fiber Co., Ltd./Jiangyin Huamei Special Fiber Co., Ltd./Jiangyin Huasheng Polymerization Co., Ltd./Jiangyin Huayi Polymerization Co., Ltd./Jiangyin Huaxing Synthetic Co., Ltd./Jiangyin Xingsheng Plastic Co., Ltd | 72.22 | 72.22
Jiangyin Huahong Chemical Fiber Co., Ltd | Jiangyin Huahong Chemical Fiber Co., Ltd./Jiangyin Huakai Polyester Co., Ltd./Jiangyin Hongkai Chemical Fiber Co., Ltd | 65.17 | 65.11
Hangzhou Best Chemical Fiber Co., Ltd | Hangzhou Best Chemical Fiber Co., Ltd | 68.70 | 68.64
Cixi Jiangnan Chemical Fiber Co. Ltd | Cixi Jiangnan Chemical Fiber Co. Ltd | 68.70 | 68.64
Jiangsu Xinsu Chemical Fiber Co., Ltd | Jiangsu Xinsu Chemical Fiber Co., Ltd | 68.70 | 68.64
Jiangyin Jinyan Chemical Fiber Co., Ltd | Jiangyin Jinyan Chemical Fiber Co., Ltd./Jiangsu Xiang He Tai Fiber Technology Co., Ltd | 68.70 | 68.64
Jiangyin Yangxi International Trade Co., Ltd | Jiangsu Hengze Composite Materials Technology Co., Ltd./Chuzhou Prosperity Environmental Protection Color Fiber Co., Ltd./Jiangsu Xiang He Tai Fiber Technology Co., Ltd./Jiangyin Hengfeng Chemical Fiber Co., Ltd./Jiangyin Shunze Chemical Fiber Co., Ltd | 68.70 | 68.64
Zhejiang Jinfuchun Industrial Co., Ltd | Zhejiang Jinfuchun Industrial Co., Ltd | 68.70 | 68.64
Nanyang Textile Co., Ltd | Nanyang Textile Co., Ltd | 68.70 | 68.64
Ningbo Dafa Chemical Fiber Co. Ltd | Ningbo Dafa Chemical Fiber Co. Ltd | 68.70 | 68.64
Zhaoqing Tifo New Fibre Co., Ltd | Zhaoqing Tifo New Fibre Co., Ltd | 68.70 | 68.64
Unifi Textiles (Suzhou) Co., Ltd | Jiangyin Yueda Chemical Fiber Limited Company/Hangzhou BenMa Chemical and Spinning Company Ltd./Yizheng Chemical Fiber Limited Liability Company | 68.70 | 68.64
Yuyao Dafa Chemical Fiber Co., Ltd | Yuyao Dafa Chemical Fiber Co., Ltd | 68.70 | 68.64
Zhangjiagang City Hongtuo Chemical Fiber Co., Ltd | Jiangyin Jindun Chemical Fiber Co., Ltd | 68.70 | 68.64
Zhejiang Linan Foreign Trade Co., Ltd | Zhejiang Huashun Technology Co., Ltd | 68.70 | 68.64
Suzhou Zhengbang Chemical Fiber Co., Ltd | Suzhou Zhengbang Chemical Fiber Co., Ltd | 68.70 | 68.64
CHINA-WIDE ENTITY | 103.06 | 103.00

India

Exporter/producer | Estimated weighted- average dumping margin (percent) | Cash deposit rate adjusted for subsidy offset (percent)
Reliance Industries Limited | 21.43 | 14.48
Bombay Dyeing & Manufacturing Company Limited | 21.43 | 15.49
All-Others | 21.43 | 14.67

Korea

Exporter/producer | Estimated weighted- average dumping margin (percent)
Toray Chemical Korea Inc | 0.00
Huvis Corporation | 45.23
Down Nara, Co., Ltd., Down-Nara, Co., Ltd (AKA Koreco Synthetic Fiber Co., Ltd.) | 45.23
All-Others | 30.15

Taiwan

Exporter/producer | Estimated weighted- average dumping margin (percent)
Tainan Spinning Co., Ltd | 0.00
Far Eastern Textile Ltd. (AKA Far Eastern New Century Corporation) | 48.86
All-Others | 24.43

This notice constitutes the antidumping duty orders with respect to fine denier PSF from China, India, Korea, and Taiwan pursuant to section 736(a) of the Act. Interested parties can find a list of antidumping duty orders currently in effect at http://enforcement.trade.gov/stats/iastats1.html.

These orders are published in accordance with section 736(a) of the Act and 19 CFR 351.211(b).

Dated: July 16, 2018.
Gary Taverman,
Deputy Assistant Secretary for Antidumping and Countervailing Duty Operations, performing the non-exclusive functions and duties of the Assistant Secretary for Enforcement and Compliance.

Appendix—Scope of the Orders

The merchandise covered by these orders is fine denier polyester staple fiber (fine denier PSF), not carded or combed, measuring less than 3.3 decitex (3 denier) in diameter. The scope covers all fine denier PSF, whether coated or uncoated. The following products are excluded from the scope:

(1) PSF equal to or greater than 3.3 decitex (more than 3 denier, inclusive) currently classifiable under Harmonized Tariff Schedule of the United States (HTSUS) subheadings 5503.20.0045 and 5503.20.0065.

(2) Low-melt PSF defined as a bi-component polyester fiber having a polyester fiber component that melts at a lower temperature than the other polyester fiber component, which is currently classifiable under HTSUS subheading 5503.20.0015.

Fine denier PSF is classifiable under the HTSUS subheading 5503.20.0025. Although the HTSUS subheadings are provided for convenience and customs purposes, the written description of the scope of these orders is dispositive.

[FR Doc. 2018-15567 Filed 7-19-18; 8:45 am]

BILLING CODE 3510-DS-P